Title 3—

The President

Memorandum of June 28, 2024

Extending Eligibility for Deferred Enforced Departure for Liberians

Memorandum for the Secretary of State [and] the Secretary of Homeland Security

Since 1991, the United States has provided safe haven for Liberians who were forced to flee their country as a result of armed conflict and widespread civil strife, in part through the grant of Temporary Protected Status (TPS) and Deferred Enforced Departure (DED).

In December 2019, the Congress enacted the National Defense Authorization Act for Fiscal Year 2020 (Public Law 116-92) (NDAA), which included, as section 7611, the Liberian Refugee Immigration Fairness (LRIF) provision. The LRIF provision, with limited exceptions, makes Liberians who have been continuously present in the United States since November 20, 2014, as well as their spouses and children, eligible for adjustment of status to that of lawful permanent resident (LPR). The NDAA gave eligible Liberian nationals until December 20, 2020, to apply for this adjustment of status. After the enactment of the LRIF provision, President Trump further extended the DED transition period through January 10, 2021, to ensure that DED beneficiaries would continue to be eligible for employment authorization during the LRIF application period.

The LRIF application process was new and complex, resulting in some procedural and administrative challenges. Recognizing these difficulties, the Congress enacted a 1-year extension to the application period in section 901 of the Consolidated Appropriations Act, 2021 (Public Law 116-260). That legislation, however, did not provide for continued employment authorization past January 10, 2021. Through my memorandum of January 20, 2021 (Reinstating Deferred Enforced Departure for Liberians), DED was subsequently reinstated through June 30, 2022, in order to permit employment authorization for eligible Liberians while they made their applications for adjustment of status under the LRIF provision. My memorandum of June 27, 2022 (Extending and Expanding Eligibility for Deferred Enforced Departure for Liberians) (2022 Memorandum), further authorized an extension of DED for 24 months, ending June 30, 2024, and expanded eligibility to those Liberian nationals, or persons without nationality who last habitually resided in Liberia, who had been continuously physically present in the United States since May 20, 2017.

There are compelling foreign policy reasons to extend DED for those Liberians who have been continuously present in the United States since May 20, 2017, and were eligible for DED under the 2022 Memorandum. Providing protection from removal and work authorization to these Liberians, for whom we have long authorized TPS or DED in the United States, honors the historic close relationship between the United States and Liberia and is in the foreign policy interests of the United States.

Pursuant to my constitutional authority to conduct the foreign relations of the United States, I have determined that it is in the foreign policy interests of the United States to extend through June 30, 2026, deferred removal for those Liberians already under a grant of DED under the 2022 Memorandum. I have also determined that these Liberian nationals should have continued employment authorization through June 30, 2026.

The Secretary of Homeland Security shall promptly direct the appropriate officials to make provision, by means of a notice published in the Federal Register, for immediate allowance of employment authorization and prompt issuance of new or replacement employment authorization documents in appropriate cases for covered Liberians.

This grant of DED and continued employment authorization shall apply to any person who was eligible for a grant of DED under the 2022 Memorandum, to include any Liberian national, or person without nationality who last habitually resided in Liberia, who has been continuously physically present in the United States since May 20, 2017, but shall not apply to such persons in the following categories:

(1) individuals who would be ineligible for TPS for the reasons provided in section 244(c)(2)(B) of the Immigration and Nationality Act, 8 U.S.C. 1254a(c)(2)(B);

(2) individuals who sought or seek LPR status under the LRIF provision but whose applications have been or are denied by the Secretary of Homeland Security due to ineligibility for the LRIF provision under sections 7611(b)(1)(C) and (b)(3) of the NDAA;

(3) individuals whose removal the Secretary of Homeland Security determines is in the interest of the United States, subject to the LRIF provision;

(4) individuals whose presence or activities in the United States the Secretary of State has reasonable grounds to believe would have potentially serious adverse foreign policy consequences for the United States;

(5) individuals who have voluntarily returned to Liberia or their country of last habitual residence outside the United States for an aggregate period of 180 days or more, as specified in subsection (c)(2) of the LRIF provision; or

(6) individuals who are subject to extradition.

Accordingly, I hereby direct the Secretary of Homeland Security to take the necessary steps to implement for eligible Liberians:

(1) a deferral of enforced departure from the United States through June 30, 2026, effective immediately; and

(2) authorization for employment valid through June 30, 2026.

The Secretary of Homeland Security is authorized and directed to publish this memorandum in the Federal Register.

THE WHITE HOUSE,

Washington, June 28, 2024

[FR Doc. 2024-14756

Filed 7-2-24; 8:45 am]

Billing code 4410-10-P